DEPARTMENT OF HOUSING AND URBAN DEVELOPMENT

[Docket No. FR-5030-N-30]

Announcement of Funding Awards for Resident Opportunities and Self-Sufficiency Elderly/Persons With Disabilities Program for Fiscal Year 2006

AGENCY: Office of Public and Indian Housing, HUD.

ACTION: Announcement of funding awards.

SUMMARY: In accordance with Section 102(a)(4)(C) of the Department of Housing and Urban Development Reform Act of 1989, this announcement notifies the public of funding decisions made by the Department for funding under the FY 2006 (FY2006) Notice of Funding Availability (NOFA) for the Resident Opportunities and Self-Sufficiency Elderly/Persons with Disabilities Program funding for FY2006. This announcement contains the consolidated names and addresses of those award recipients selected for funding based on the rating and ranking of all applications and the allocation of funding available for each state.

FOR FURTHER INFORMATION CONTACT: For questions concerning the FY2006 ROSS Elderly/Persons With Disabilities awards, contact the Office of Public and Indian Housing's Grants Management Center, Director, Iredia Hutchinson, Department of Housing and Urban Development, Washington, DC, telephone (202) 358-0221. For the hearing or speech impaired, these numbers may be accessed via TTY (text telephone) by calling the Federal Information Relay Service at (800) 877-8339. (Other than the “800” TTY number, these telephone numbers are not toll-free.)

SUPPLEMENTARY INFORMATION: The authority for the $10,000,000 in one-year budget authority for ROSS Elderly/Persons with Disabilities program coordinators is found in the Departments of Veterans Affairs and Housing and Urban Development, and Independent Agencies Appropriations Act, FY2004 (Pub. L. 108). The allocation of housing assistance budget authority is pursuant to the provisions of 24 CFR 791, subpart D, implementing section 213 (d) of the Housing and Community Development Act of 1974, as amended.

This program is intended to promote the development of local strategies to coordinate the use of assistance under the ROSS program with public and private resources to enable participating families to achieve economic independence and self-sufficiency. A Public and Indian Housing Program Coordinator assures that program participants are linked to the supportive services they need to achieve self-sufficiency.

The FY2006 awards announced in this Notice were selected for funding in a competition announced in a Federal Register NOFA published on March 8, 2006 (71 FR 11913). Applications were scored based on the selection criteria in that Notice and funding selections made based on the rating and ranking of applications within each state.

In accordance with Section 102(a)(4)(C) of the Department of Housing and Urban Development Reform Act of 1989 (103 Stat. 1987, 42 U.S.C. 3545), the Department is publishing the names, addresses, and amounts of the 33 awards made under the ROSS Elderly/Persons with Disabilities Program competition.

Dated: March 6, 2007.
Orlando J. Cabrera,
Assistant Secretary for Public and Indian Housing.

Appendix A—Fiscal Year 2006 Funding Awards for the Ross Elderly/Persons With Disabilities Program
Mobile Housing Board | 151 South Claiborne Street | Mobile | AL | 36602 | $350,000
Lutheran Social Ministry of the Southwest | 5049 East Broadway, Suite 102 | Tucson | AZ | 85711 | 375,000
The Housing Authority of the County of Los Angeles | 2 Coral Circle | Monterey Park | CA | 91755 | 350,000
Atlanta Regional Commission | 40 Courtland Street, Northeast | Atlanta | GA | 30303 | 375,000
Housing and Community Development Corporation of Hawaii | 677 Queen Street, Suite 300 | Honolulu | HI | 96813 | 388,522
Chicago Housing Authority | 626 West Jackson Street | Chicago | IL | 60661 | 300,000
The Housing Authority of the City of New Albany, Indiana | Post Office Box 11 | New Albany | IN | 47150 | 350,000
City of Wichita Housing Authority | 332 North Riverview | Wichita | KS | 67203 | 240,000
Housing Authority of Catlettsburg | 210 24th Street | Catlettsburg | KY | 41129 | 110,708
Housing Authority of Corbin | 1336 Madison Street | Corbin | KY | 40701 | 207,324
Grand Rapids Housing Commission | 1420 Fuller Avenue, Southeast | Grand Rapids | MI | 49507 | 164,734
Housing Authority of St. Louis Park | 5005 Minnetonka Boulevard | St. Louis Park | MN | 55416 | 210,627
Natchez Housing Authority | 2 Auburn Avenue | Natchez | MS | 39120 | 250,000
Public Housing Authority of Butte | 220 Curtis Street | Butte | MT | 59701 | 98,500
Gastonia Housing Authority | P.O. 2398, 340 West Long Avenue | Gastonia | NC | 28053-2398 | 250,000
Dover Housing Authority | 62 Whittier Street | Dover | NH | 03820-2994 | 269,362
Garfield Housing Authority | 71 Daniel P. Conti Court | Garfield | NJ | 7026 | 350,000
Housing Authority of Gloucester County | 100 Pop Moylan Boulevard | Deptford | NJ | 8096 | 76,066
Housing Authority of the Township of Woodbridge | 20 Bunns Lane | Woodbridge | NJ | 7095 | 350,000
Catholic Family Center | 87 North Clinton Avenue | Rochester | NY | 14604 | 375,000
Ithaca Housing Authority | 800 South Plain Street | Ithaca | NY | 14850 | 333,640
White Plains Housing Authority | 223 Dr. Martin Luther King, Jr. Boulevard | White Plains | NY | 10601 | 225,000
Columbiana Metropolitan Housing Authority | 325 Moore Street | East Liverpool | OH | 43920 | 350,000
Stark Metropolitan Housing Authority | 400 Tuscarawas Street East | Canton | OH | 44702-1131 | 272,487
Mercer County Housing Authority | 80 Jefferson Avenue | Sharon | PA | 16146 | 240,000
City of San Marcos Housing Authority | 1201 Thorpe Lane | San Marcos | TX | 78666 | 207,311
Housing Authority of the City of El Paso | 5300 Paisano Drive | El Paso | TX | 79905 | 450,000
Bennington Housing Authority | 22 Willowbrook Drive | Bennington | VT | 05201-1773 | 250,000
Rutland Housing Authority | 5 Tremont Street | Rutland | VT | 05701 | 248,750
Neighborhood House | 905 Spruce Street, Suite 200 | Seattle | WA | 98104 | 125,000
Neighborhood House | 905 Spruce Street | Seattle | WA | 98104 | 250,000
Friends of Housing Corporation | 9141 West Lisbon Avenue | Milwaukee | WI | 53222 | 375,000
Wheeling Housing Authority | Box 2089 11 Community Street | Wheeling | WV | 26003 | 239,160

[FR Doc. E7-6391 Filed 4-4-07; 8:45 am]

BILLING CODE 4210-67-P